DEPARTMENT OF DEFENSE

Department of the Army

Notice of Availability for Exclusive, Non-Exclusive, or Partially-Exclusive Licensing of an Invention Concerning Low Fat, High Protein, High Carbohydrate Complete Enteral Nutritional Compositions for Treatment of Burn Patients

AGENCY: Department of the Army, DoD.

ACTION: Notice.

SUMMARY: Announcement is made of the availability for licensing of the invention set forth in U.S. Provisional Patent Application Serial No. 61/733,938, entitled “Low Fat, High Protein, High Carbohydrate Complete Enteral Nutritional Compositions for Treatment of Burn Patients,” filed on December 6, 2012. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to low fat, high protein, high carbohydrate enteral nutritional formulations for use in providing the complete nutritional needs of subjects with severe burn, methods of providing nutritional support to burn patients using these formulations, and methods of making the same. These complete enteral nutritional formulations are polymeric, concentrated, and do not contain added arginine. In addition, these enteral nutritional formulations are homogeneous solutions that flow through tubing well.

Brenda S. Bowen,
Army Federal Register Liaison Officer.

[FR Doc. 2014-00287 Filed 1-10-14; 8:45 am]

BILLING CODE 3710-08-P